DEPARTMENT OF TRANSPORTATION

Federal Aviation Administration

14 CFR Part 39

[Docket No. FAA-2004-19536; Directorate Identifier 2004-NM-86-AD]

RIN 2120-AA64

Airworthiness Directives; McDonnell Douglas Model DC-8-11, DC-8-12, DC-8-21, DC-8-31, DC-8-32, DC-8-33, DC-8-41, DC-8-42, and DC-8-43 Airplanes; DC-8-50 Series Airplanes; DC-8F-54 and DC-8F-55 Airplanes; DC-8-60 Series Airplanes; DC-8-60F Series Airplanes; DC-8-70 Series Airplanes; and DC-8-70F Series Airplanes

AGENCY: Federal Aviation Administration (FAA), DOT.

ACTION: Notice of proposed rulemaking (NPRM).

SUMMARY: The FAA proposes to supersede an existing airworthiness directive (AD) for certain McDonnell Douglas Model DC-8-70 and -70F series airplanes. That AD currently requires repetitive inspections for cracking of the lower cargo doorjamb corners, and corrective action if necessary. That AD provides for optional terminating action for certain repetitive inspections for certain airplanes. For certain other airplanes, that AD requires modification of the lower cargo doorjamb corners. This proposed AD would add airplanes to the applicability. The existing AD was prompted by reports of fatigue cracks in the fuselage skin in the lower cargo doorjamb corners; this proposed AD is prompted by the inadvertent omission of certain airplanes from the existing applicability. We are proposing this AD to ensure that the unsafe condition will be addressed on all affected airplanes so that cracking in the lower cargo doorjamb corners is detected and corrected before it can result in rapid decompression of the fuselage and consequent reduced structural integrity of the airplane.

DATES: We must receive comments on this proposed AD by December 20, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: room PL-401 on the plaza level of the Nassif Building, 400 Seventh Street, SW., Washington, DC, between 9 a.m. and 5 p.m., Monday through Friday, except Federal holidays.

You can get the service information identified in this proposed AD from Boeing Commercial Airplanes, Long Beach Division, 3855 Lakewood Boulevard, Long Beach, California 90846, Attention: Data and Service Management, Dept. C1-L5A (D800-0024).

You may examine the contents of the AD docket on the Internet at http://dms.dot.gov.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19536; Directorate Identifier 2004-NM-86-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On March 12, 2004, we issued AD 2004-06-06, amendment 39-13532 (69 FR 15234, March 25, 2004), for certain McDonnell Douglas Model DC-8-70 and -70F series airplanes. That AD requires repetitive inspections for cracking of the lower cargo doorjamb corners, and corrective action if necessary. For certain airplanes, that AD provides for optional terminating action for certain repetitive inspections. For certain other airplanes, that AD requires modification of the lower cargo doorjamb corners. That AD was prompted by reports of fatigue cracks in the fuselage skin in the lower cargo doorjamb corners. We issued that AD to detect and correct cracking in the lower cargo doorjamb corners, which could result in rapid decompression of the fuselage and consequent reduced structural integrity of the airplane.

Actions Since Existing AD Was Issued

Since we issued AD 2004-06-06, we learned that certain airplanes had been inadvertently omitted from the applicability. That AD's applicability includes only “Model DC-8-70 and -70F series airplanes.” That applicability does not precisely identify the affected airplanes: Model DC-8 series 70 “and prior” airplanes.

FAA's Determination and Requirements of the Proposed AD

We have evaluated all pertinent information and identified an unsafe condition that is likely to exist or develop on other products of this same type design. Therefore, we are proposing to supersede AD 2004-06-06.

This proposed AD would continue to require repetitive inspections for cracking of the lower cargo doorjamb corners, and corrective action if necessary. This proposed AD would continue to provide for optional terminating action for certain repetitive inspections for certain airplanes. For certain other airplanes, this proposed AD would continue to require modification of the lower cargo doorjamb corners.

This proposed AD would clarify the applicability and ensure compliance of all affected airplanes by adding the affected airplanes that were inadvertently omitted from the existing AD.

This proposed AD would require using the service information described previously to perform these actions, except as discussed below under “Differences Between the Proposed AD and the Service Bulletin.”

The proposed AD would continue to require that operators send us a report of the results of each inspection.

Differences Between the Proposed AD and the Service Bulletin

McDonnell Douglas Service Bulletin DC8-53-078 (described in the preamble to AD 2004-06-06) specifies that the manufacturer may be contacted for disposition of certain repair conditions. This proposed AD would continue to require that those repairs be done in accordance with an FAA-approved method, or in accordance with data meeting the type certification basis of the airplane approved by a Boeing Company Designated Engineering Representative whom we have authorized to make such findings.

Additional Changes to Existing AD

This proposed AD would retain the requirements of AD 2004-06-06. Since we issued that AD, we have revised the AD format. As a result, we have rearranged certain paragraphs and changed the corresponding paragraph identifiers in this proposed AD, as listed in the following table:

Reidentified Paragraphs
Paragraph identifier in AD 2004-06-06: | New paragraph identifier in this proposed AD:
(a) | (f)
(b) | (g)
(c) | (h)
(d) | (i)
(e) | (j)
(f) | (k)
(g) | (l)

Costs of Compliance

This proposed AD would affect about 264 airplanes worldwide. The following table provides the estimated costs for U.S. operators to comply with this proposed AD, which adds no economic burden above that imposed by AD 2004-06-06. The current costs for this AD are repeated for the convenience of affected operators, as follows:

Estimated Costs
Action | Work hours | Average labor rate per hour | Parts | Cost per airplane | No. of affected U.S.-registered airplanes | Fleet cost
Pre-modification inspections | 24 | $65 | None required | $1,560, per inspection cycle | Unknown | Unknown.
Modification | 520 | 65 | $25,000 | 58,800 | Unknown | Unknown.
Post-modification inspections | 40 | 65 | None required | 2,600, per inspection cycle | 244 | $634,400, per inspection cycle.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13532 (69 FR 15234, March 25, 2004) and adding the following new airworthiness directive (AD):

McDonnell Douglas: Docket No. FAA-2004-19536; Directorate Identifier 2004-NM-86-AD.

Comments Due Date

(a) The Federal Aviation Administration must receive comments on this airworthiness directive (AD) action by December 20, 2004.

Affected ADs

(b) This AD supersedes AD 2004-06-06, amendment 39-13532.

Applicability

(c) This AD applies to the following McDonnell Douglas airplanes, certificated in any category; as listed in McDonnell Douglas Service Bulletin DC8-53-078, Revision 01, dated January 25, 2001:

(1) Model DC-8-11, DC-8-12, DC-8-21, DC-8-31, DC-8-32, DC-8-33, DC-8-41, DC-8-42, and DC-8-43 airplanes.

(2) Model DC-8-50 series airplanes.

(3) Model DC-8F-54 and DC-8F-55 airplanes.

(4) Model DC-8-60 series airplanes.

(5) Model DC-8-60F series airplanes.

(6) Model DC-8-70 series airplanes.

(7) Model DC-8-70F series airplanes.

Unsafe Condition

(d) This AD was prompted by reports of fatigue cracks in the fuselage skin in the lower cargo doorjamb corners. We are issuing this AD to detect and correct cracking in the lower cargo doorjamb corners, which could result in rapid decompression of the fuselage and consequent reduced structural integrity of the airplane.

Compliance

(e) You are responsible for having the actions required by this AD performed within the compliance times specified, unless the actions have already been done.

Restatement of Requirements of AD 2004-06-06

Note 1: This AD is related to AD 93-01-15, amendment 39-8469, and will affect Principal Structural Elements (PSEs) 53.08.042 and 53.08.043 of the DC-8 Supplemental Inspection Document (SID), Report L26-011, Volume II, Revision 7, dated April 1993.

Group 1 Airplanes: Inspections and Optional Terminating Action

(f) Except as provided by paragraph (m) of this AD: For airplanes identified as Group 1 in McDonnell Douglas Service Bulletin DC8-53-078, Revision 01, dated January 25, 2001:

(1) Within 2,000 landings or 3 years after April 29, 2004 (the effective date of AD 2004-06-06, amendment 39-13532), whichever occurs first, perform applicable inspections for cracking of the lower cargo doorjamb corners, in accordance with the Accomplishment Instructions of the service bulletin.

(i) If no crack is detected during any inspection required by this paragraph: Repeat the inspections within the intervals specified in paragraph 1.E. of the service bulletin.

(ii) If any crack is detected during any inspection required by this paragraph: Repair before further flight in accordance with the Accomplishment Instructions of the service bulletin.

(2) Modification of the lower cargo doorjamb corners in accordance with the Accomplishment Instructions of the service bulletin terminates the repetitive inspection requirement of paragraph (f)(1)(i) of this AD.

(3) For airplanes repaired or modified in accordance with paragraph (f)(1)(ii) or (f)(2) of this AD: Within 17,000 landings after the repair or modification, perform an eddy current inspection for cracks of the doorjamb corners, in accordance with the Accomplishment Instructions of the service bulletin (Drawing SN08530001). Repeat the inspection at intervals not to exceed 4,400 landings.

Group 2 Airplanes: Modification

(g) Except as provided by paragraph (m) of this AD, for airplanes identified as Group 2 in McDonnell Douglas Service Bulletin DC8-53-078, Revision 01, dated January 25, 2001:

(1) Within 2,000 landings or 3 years after April 29, 2004, whichever occurs first, modify the lower cargo doorjamb corners in accordance with the Accomplishment Instructions of the service bulletin.

(2) Within 17,000 landings after the modification required by paragraph (g)(1) of this AD, perform applicable inspections for cracking of the doorjamb corners, in accordance with the Accomplishment Instructions of the service bulletin. Repeat the inspections at intervals not to exceed 4,400 landings.

Group 3 and Group 4 Airplanes: Inspections

(h) For airplanes identified as Group 3 and Group 4 in McDonnell Douglas Service Bulletin DC8-53-078, Revision 01, dated January 25, 2001: Within 17,000 landings following accomplishment of the modification specified in the service bulletin, perform applicable inspections for cracking of the lower cargo doorjamb corners, in accordance with the Accomplishment Instructions of the service bulletin. Repeat the inspections at intervals not to exceed 4,400 landings.

All Airplanes: Repair Following Post-Modification Inspections

(i) If any cracking is detected during any inspection required by paragraph (f)(3), (g)(2), or (h) of this AD: Repair before further flight in accordance with a method approved by the Manager, Los Angeles Aircraft Certification Office (ACO), FAA; or per data meeting the type certification basis of the airplane approved by a Boeing Company Designated Engineering Representative (DER) who has been authorized by the Manager, Los Angeles ACO, to make such findings. For a repair method to be approved, the approval must specifically refer to this AD.

Credit for Prior Accomplishment

(j) Inspections done before the effective date of April 29, 2004, in accordance with McDonnell Douglas Service Bulletin DC8-53-078, dated February 6, 1996, are acceptable for compliance with the applicable inspections required by this AD.

(k) Inspections and repairs specified in this AD of areas of PSEs 53.08.042 and 53.08.043 are acceptable for compliance with the applicable requirements of paragraphs (a) and (b) of AD 93-01-15. The remaining areas of the affected PSEs must be inspected and repaired as applicable, in accordance with AD 93-01-15.

Report

(l) At the applicable time specified in paragraph (l)(1) or (l)(2) of this AD: Submit a report of the findings (both positive and negative) of each inspection required by this AD to the Manager, Los Angeles ACO. Under the provisions of the Paperwork Reduction Act of 1980 (44 U.S.C. 3501 et seq.), the Office of Management and Budget (OMB) has approved the information collection requirements contained in this AD and has assigned OMB Control Number 2120-0056.

(1) For an inspection done after April 29, 2004: Submit the report within 10 days after the inspection.

(2) For an inspection done before April 29, 2004: Submit the report within 10 days after April 29, 2004.

Requirements for Newly Added Airplanes

(m) For airplanes not subject to the requirements of AD 2004-06-06, the reference time for compliance is the effective date of this new AD, rather than April 29, 2004 (the effective date of AD 2004-06-06).

Alternative Methods of Compliance

(n)(1) In accordance with 14 CFR 39.19, the Manager, Los Angeles ACO, FAA, is authorized to approve alternative methods of compliance (AMOCs) for this AD.

(2) An AMOC that provides an acceptable level of safety may be used for any repair required by this AD, if it is approved by a Boeing DER who has been authorized by the Manager, Los Angeles ACO, to make such findings.

Material Incorporated by Reference

(o) None.

Related Information

(p) None.

Issued in Renton, Washington, on October 26, 2004.
Ali Bahrami,
Manager, Transport Airplane Directorate, Aircraft Certification Service.

[FR Doc. 04-24724 Filed 11-4-04; 8:45 am]

BILLING CODE 4910-13-P